SMALL BUSINESS ADMINISTRATION

[Declaration of Disaster #3615]

State of Florida

As a result of the President's major disaster declaration on August 13, 2004, and notices received from the Department of Homeland Security—Federal Emergency Management Agency—on August 14 and 15, 2004, I find that Brevard, Charlotte, Collier, DeSoto, Dixie, Duval, Glades, Hardee, Hendry, Highlands, Indian River, Lake, Lee, Levy, Manatee, Monroe, Okeechobee, Orange, Osceola, Pasco, Polk, Sarasota, Seminole, St. Johns, and Volusia Counties in the State of Florida constitute a disaster area due to damages caused by Tropical Storm Bonnie and Hurricane Charley occurring on August 11, 2004, and continuing. Applications for loans for physical damage as a result of this disaster may be filed until the close of business on October 12, 2004, and for economic injury until the close of business on May 13, 2005, at the address listed below or other locally announced locations: U.S. Small Business Administration, Disaster Area 2 Office, One Baltimore Place, Suite 300, Atlanta, GA 30308.

In addition, applications for economic injury loans from small businesses located in the following contiguous counties may be filed until the specified date at the above location: Alachua, Baker, Broward, Citrus, Clay, Flagler, Gilchrist, Hernando, Hillsborough, Lafayette, Marion, Martin, Miami-Dade, Nassau, Palm Beach, Pinellas, Putnam, St. Lucie, Sumter, and Taylor in the State of Florida.

The interest rates are:

| Percent
For Physical Damage:
Homeowners with Credit Available Elsewhere | 6.375
Homeowners without Credit Available Elsewhere | 3.187
Businesses with Credit Available Elsewhere | 5.800
Businesses and Non-Profit Organizations without Credit Available Elsewhere | 2.900
Others (Including Non-Profit Organizations) with Credit Available Elsewhere | 4.875
For Economic InJury:
Businesses and Small Agricultural Cooperatives without Credit Available Elsewhere | 2.900

The number assigned to this disaster for physical damage is 361508 and for economic injury the number is 9ZP700.

(Catalog of Federal Domestic Assistance Program Nos. 59002 and 59008)
Dated: August 16, 2004.
Cheri L. Cannon,
Acting Associate Administrator for Disaster Assistance.

[FR Doc. 04-19192 Filed 8-20-04; 8:45 am]

BILLING CODE 8025-01-P